DEPARTMENT OF HEALTH AND HUMAN SERVICES

Centers for Disease Control and Prevention

[Docket No. CDC-2026-0199]

Meeting of the Advisory Committee on Immunization Practices

AGENCY: Centers for Disease Control and Prevention (CDC), Department of Health and Human Services (HHS).

ACTION: Notice of meeting and request for comment.

SUMMARY: In accordance with the Federal Advisory Committee Act, the Centers for Disease Control and Prevention (CDC) announces the following meeting of the Advisory Committee on Immunization Practices (ACIP). Time will be available for public comment.

DATES: The meeting will be held on March 18, 2026, from 8 a.m. to 5 p.m., EST, and March 19, 2025, from 8 a.m. to 5 p.m., EST, (times subject to change; see the ACIP website for updates: https://www.cdc.gov/vaccines/acip/index.html). The meeting is expected to be held at the Centers for Disease Control and Prevention, with virtual option. Written comments must be received between March 2—12, 2026.

ADDRESSES: You may submit comments, identified by Docket No. CDC-2026-0199, by either of the methods listed below. CDC does not accept comments by email.

• Federal eRulemaking Portal: https://www.regulations.gov. Follow the instructions for submitting comments.

• Mail: ACIP Secretariat, ACIP Meeting, Centers for Disease Control and Prevention, 1600 Clifton Road NE, Mailstop H21-12, Atlanta, Georgia 30329-4027. Attn: Docket No. CDC-2026-0199.

Instructions: All submissions received must include the Agency name and docket number. For access to the docket to read background documents or comments received, go to https://www.regulations.gov.

The meeting will be webcast live via the World Wide Web. The webcast link can be found on the ACIP website at https://www.cdc.gov/acip.

FOR FURTHER INFORMATION CONTACT: ACIP Secretariat, Advisory Committee on Immunization Practices, Centers for Disease Control and Prevention, 1600 Clifton Road NE, Mailstop H21-12, Atlanta, Georgia 30329-4027. Email: ACIP@cdc.gov.

SUPPLEMENTARY INFORMATION: Purpose: The Advisory Committee on Immunization Practices is charged with advising the Director, Centers for Disease Control and Prevention (CDC), on the use of immunizing agents. In addition, under 42 U.S.C. 1396s, the Committee is mandated to establish and periodically review and, as appropriate, revise the list of vaccines for administration to vaccine-eligible children through the Vaccines for Children program, along with schedules regarding dosing interval, dosage, and contraindications to administration of vaccines. Further, under applicable provisions of the Affordable Care Act and section 2713 of the Public Health Service Act, immunization recommendations of ACIP that have been adopted by the Director, CDC, and appear on CDC immunization schedules generally must be covered by applicable health plans.

Matters to be Considered: The agenda will include updates on ACIP Workgroups and discussions on COVID-19 vaccine injuries and Long-COVID and ACIP recommendation methodology. Recommendation votes may be scheduled for COVID-19 vaccine injuries and Long-COVID and ACIP recommendation methodology. Agenda items are subject to change as priorities dictate. For more information on the meeting agenda, visit https://www.cdc.gov/acip/meetings/index.html.

Meeting Information: The meeting will be webcast live via the World Wide Web. For more information on ACIP, please visit the ACIP website: https://www.cdc.gov/acip.

Public Participation

Interested persons or organizations are invited to participate by submitting written views, recommendations, and data. Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near-duplicate examples of a mass-mail campaign. CDC will carefully consider all comments submitted into the docket.

Written Public Comment: The docket will be opened to receive written comments March 2-12, 2026. Written comments must be received by March 12, 2026.

Oral Public Comment: This meeting will include time for members of the public to make an oral comment. Oral public comment will occur before any scheduled votes, including all votes relevant to the ACIP's Affordable Care Act and Vaccines for Children Program roles. Priority will be given to individuals who submit a request to make an oral public comment before the meeting according to the procedures below.

Procedure for Oral Public Comment: All persons interested in making an oral public comment at the March 18—19, 2026, ACIP meeting must submit a request at https://www.cdc.gov/acip/meetings/index.html between March 2—12, 2026, and no later than 11:59 p.m., EST, March 12, 2026, according to the instructions provided.

If the number of persons requesting to speak is greater than can be reasonably accommodated during the scheduled time, CDC will conduct a random draw to determine the speakers for the scheduled public comment session. CDC staff will notify individuals regarding their request to speak by email by March 16, 2026. To accommodate the significant interest in participation in the oral public comment session of ACIP meetings, each speaker will be limited to three minutes, and each speaker may speak only once per meeting.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2026-03877 Filed 2-25-26; 8:45 am]

BILLING CODE 4163-18-P